DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 31, 2009.

Interested persons are invited to submit written comments regarding the subject matter of the investigations to the Director, Division of Trade Adjustment Assistance, at the address shown below, not later than December 31, 2009.

The petitions filed in this case are available for inspection at the Division of Trade Adjustment Assistance, Employment and Training Administration, U.S. Department of Labor, Room N-5428, 200 Constitution Avenue, NW., Washington, DC 20210.

Signed at Washington, DC this 11th day of December 2009.
Elliott Kushner,
Certifying Officer, Division of Trade Adjustment Assistance.

Appendix
[TAA petitions instituted between 11/30/09 and 12/4/09]
TA-W | Subject firm (petitioners) | Location | Date of institution | Date of petition
72972 | Sungard Higher Education (Wkrs) | Malvern, PA | 11/30/09 | 11/25/09
72973 | Marvell Semiconductor, Inc. (Wkrs) | Boise, ID | 11/30/09 | 11/25/09
72974 | Panduit Corporation (Comp) | Tinley Park, IL | 11/30/09 | 11/23/09
72975 | Pexco LLC (formerly Filtrona Extrusion, Inc.) (Union) | Union Gap, WA | 11/30/09 | 11/23/09
72976 | Deutsche Bank Services New Jersey, Inc. (Wkrs) | Jersey City, NJ | 12/01/09 | 11/27/09
72977 | Hennings Automotive (Wkrs) | New Haven, MO | 12/01/09 | 11/02/09
72978 | Caterpillar, Inc.—Mapleton Foundry (Union) | Peoria, IL | 12/01/09 | 11/03/09
72979 | TTI Transaction Technologies (Wkrs) | Union, MO | 12/01/09 | 10/26/09
72980 | IBM (Wkrs) | Farmers Branch, TX | 12/01/09 | 11/24/09
72981 | IVAX Pharmaceuticals NY (Comp) | Congers, NY | 12/01/09 | 11/20/09
72982 | Ryder Logistics (Wkrs) | Indianapolis, IN | 12/01/09 | 11/30/09
72983 | R&M Manufacturing (Wkrs) | Milton, WI | 12/01/09 | 11/25/09
72984 | Delphi Delco Electronics de Mexico (Comp) | Los Indios, TX | 12/01/09 | 11/30/09
72985 | Brantly Helicopter (Wkrs) | Vernon, TX | 12/01/09 | 11/30/09
72986 | Wardwell Braiding Machine Company (Comp) | Central Falls, RI | 12/01/09 | 11/30/09
72987 | Lapp Insulators (Wkrs) | Leroy, NY | 12/01/09 | 11/06/09
72988 | Matcor Automotive (Wkrs) | Moberly, MO | 12/01/09 | 11/24/09
72989 | Hanesbrands, Inc. for Eden and Related Operations (Comp) | Winston-Salem, NC | 12/02/09 | 11/24/09
72990 | Reliant Machine, Inc. (State) | Green Bay, WI | 12/02/09 | 12/01/09
72991 | Vascor Ltd. (Comp) | Fremont, CA | 12/02/09 | 12/01/09
72992 | Ideal Tool and Plastics (Wkrs) | Meadville, PA | 12/02/09 | 11/24/09
72993 | Boeing Aerospace Corporation (State) | Seattle, WA | 12/02/09 | 11/24/09
72994 | Nautilus, Inc. (Comp) | Vancouver, WA | 12/02/09 | 11/30/09
72995 | Travelport (Comp) | Parsippany, NJ | 12/02/09 | 11/24/09
72996 | Sunrise Toole & Die (Wkrs) | Henderson, KY | 12/02/09 | 11/20/09
72997 | Sherrill Furniture (Wkrs) | Newton, NC | 12/02/09 | 11/18/09
72998 | Bristol-Myers Squibb (Comp) | Evansville, IN | 12/02/09 | 11/20/09
72999 | Shain Solution (Union) | Philipsburg, PA | 12/02/09 | 11/25/09
73000 | Ayerswre Electronics (Wkrs) | Corinth, MS | 12/02/09 | 12/01/09
73001 | NOV Fiber Glass System (Wkrs) | Big Spring, TX | 12/02/09 | 12/01/09
73002 | Brose Gainesville, Inc. (Comp) | Gainesville, GA | 12/02/09 | 12/01/09
73003 | IBM (Wkrs) | Austin, TX | 12/02/09 | 11/24/09
73004 | Bank of America (Wkrs) | Albany, NY | 12/03/09 | 11/30/09
73005 | Camcar Aerospace (Comp) | Rockford, IL | 12/03/09 | 12/02/09
73006 | Hersey Meters (Wkrs) | Cleveland, NC | 12/03/09 | 11/27/09
73007 | Perotsystems (Wkrs) | Phoenix, AZ | 12/03/09 | 12/01/09
73008 | Nortel/CDMA MTX Group (Wkrs) | Richardson, TX | 12/03/09 | 11/01/09
73009 | Sunoco Eagle Point Refinery (Wkrs) | Westville, NJ | 12/04/09 | 12/01/09
73010 | General Motors Powertrain Toledo Transmission Plant (Union) | Toledo, OH | 12/04/09 | 12/03/09
73011 | Agfa HealthCare, Inc. (Comp) | Wilmington, MA | 12/04/09 | 09/03/09
73012 | Oldcastle Glass Engineered Products (Wkrs) | Bloomsburg, PA | 12/04/09 | 12/01/09
73013 | Pentron Clinical Technologies (State) | Wallingford, CT | 12/04/09 | 12/02/09
73014 | Schawk Retail Marketing (Comp) | Chicago, IL | 12/04/09 | 12/01/09
73015 | Mohawk Industries (Comp) | Landrum, SC | 12/04/09 | 12/03/09
73016 | News America Marketing (State) | Wilton, CT | 12/04/09 | 12/02/09
73017 | Clark Equipment Company (Union) | Bismarck, ND | 12/04/09 | 12/02/09
73018 | Smurfit-Stone Container (Wkrs) | Mansfield, OH | 12/04/09 | 12/02/09
73019 | Hunter Technology Corporation (Comp) | Santa Clara, CA | 12/04/09 | 12/02/09
73020 | Alliance Plastics East (Wkrs) | Erie, PA | 12/04/09 | 12/02/09
73021 | PJ Services (Wkrs) | Eldorado, TX | 12/04/09 | 12/03/09
73022 | Autodesk, Inc. (Wkrs) | San Rafael, CA | 12/04/09 | 11/24/09
73023 | Eagle Sportswear, Inc. (Comp) | New York, NY | 12/04/09 | 11/05/09
73024 | Kent Lincoln Mercury (Wkrs) | Kent, OH | 12/04/09 | 12/03/09
73025 | Jonathon Martin, Inc. (State) | Los Angeles, CA | 12/04/09 | 12/02/09
73026 | Sheridan Books (Wkrs) | Ann Arbor, MI | 12/04/09 | 11/25/09
73027 | Picture Source (State) | Seattle, WA | 12/04/09 | 11/25/09

[FR Doc. E9-30247 Filed 12-18-09; 8:45 am]

BILLING CODE 4510-FN-P